COMMISSION ON CIVIL RIGHTS

Sunshine Act Meeting Notice

AGENCY: United States Commission on Civil Rights.

ACTION: Notice of Commission Briefing and Business Meeting.

DATES: Friday, April 21, 2017, at 10 a.m. EST.

ADDRESSES: Place: National Place Building, 1331 Pennsylvania Ave. NW., 11th Floor, Suite 1150, Washington, DC 20245 (Entrance on F Street NW.).

FOR FURTHER INFORMATION CONTACT: Brian Walch, Communications and Public Engagement Director. Telephone: (202) 376-8371; TTY: (202) 376-8116; Email: publicaffairs@usccr.gov.

SUPPLEMENTARY INFORMATION: This business meeting is open to the public. There will also be a call-in line for individuals who desire to listen to the presentations. The call-in information is: 1-877-857-6173; Call ID # 390-6891.

Hearing-impaired persons who will attend the briefing and require the services of a sign language interpreter should contact Pamela Dunston at (202) 376-8105 or at signlanguage@usccr.gov at least three business days before the scheduled date of the meeting.

Meeting Agenda

I. Approval of Agenda

II. Business Meeting

A. State Advisory Committees

• Vote on appointments to the Alaska State Advisory Committee

• Vote on appointments to the Arizona State Advisory Committee

• Vote on appointments to the Michigan State Advisory Committee

• Presentation by Regional Programs Coordinator on Recent Accomplishments of SAC's

B. Management and Operations

• Staff Director's Report

C. Presentation by Diane F. Afoumado, Ph.D. and Rebecca Erbelding, Ph.D. from U.S. Holocaust Museum on Journey of the St. Louis: How Jewish Refugees Fleeing the Nazi Regime Were Denied Entry by the U.S.

III. Adjourn Meeting

Dated: April 10, 2017.
TinaLouise Martin,
Director, Office of Management.

[FR Doc. 2017-07682 Filed 4-12-17; 4:15 pm]

BILLING CODE 6335-01-P